DEPARTMENT OF COMMERCE

National Oceanic and Atmospheric Administration

50 CFR Part 679

RIN 0648-XD682

Fisheries of the Exclusive Economic Zone Off Alaska; Small Vessel Exemptions; License Limitation Program

AGENCY: National Marine Fisheries Service (NMFS), National Oceanic and Atmospheric Administration (NOAA), Commerce.

ACTION: Notification of availability of fishery management plan amendments; request for comments.

SUMMARY: The North Pacific Fishery Management Council (Council) has submitted to the Secretary of Commerce (Secretary) Amendment 108 to the Fishery Management Plan for Groundfish of the Bering Sea and Aleutian Islands Management Area (BSAI FMP), Amendment 100 to the Fishery Management Plan for Groundfish of the Gulf of Alaska (GOA FMP), and Amendment 46 to the Fishery Management Plan for Bering Sea/Aleutian Islands King and Tanner Crabs (Crab FMP). If approved, these amendments would correct text omissions in the BSAI FMP, the GOA FMP, and the Crab FMP. These amendments would make the fishery management plan (FMP) texts that establish vessel length limits for small vessels exempted from the license limitation program (LLP) in the Bering Sea and Aleutian Islands Management Area (BSAI) groundfish and king and Tanner crab fisheries, and the Gulf of Alaska (GOA) groundfish fisheries, consistent with the original intent of the LLP, current operations in the fisheries, and Federal regulations. This action would promote the goals and objectives of the Magnuson-Stevens Fishery Conservation and Management Act, the FMPs, and other applicable laws.

DATES: Submit comments on Amendment 108 to the BSAI FMP, Amendment 100 to the GOA FMP, and Amendment 46 to the Crab FMP on or before April 13, 2015.

ADDRESSES: You may submit comments on this document, identified by NOAA-NMFS-2015-0161, by any of the following methods:

• Electronic Submission: Submit all electronic public comments via the Federal eRulemaking Portal. Go to www.regulations.gov/#!docketDetail;D=NOAA-NMFS-2015-0161, click the “Comment Now!” icon, complete the required fields, and enter or attach your comments.

• Mail: Submit written comments to Glenn Merrill, Assistant Regional Administrator, Sustainable Fisheries Division, Alaska Region NMFS, Attn: Ellen Sebastian. Mail comments to P.O. Box 21668, Juneau, AK 99802-1668.

Instructions: Comments sent by any other method, to any other address or individual, or received after the end of the comment period, may not be considered by NMFS. All comments received are a part of the public record and will generally be posted for public viewing on www.regulations.gov without change. All Personal Identifying Information (e.g., name, address), confidential business information, or otherwise sensitive information submitted voluntarily by the sender will be publicly accessible. NMFS will accept anonymous comments (enter “N/A” in the required fields, if you wish to remain anonymous).

Electronic copies of Amendment 108 to the BSAI FMP, Amendment 100 to the GOA FMP, Amendment 46 to the Crab FMP, and the analysis prepared for this action are available from the Alaska Region NMFS Web site at http://www.alaskafisheries.noaa.gov/regs/summary.htm.

FOR FURTHER INFORMATION CONTACT: Seanbob Kelly, 907-271-5195.

SUPPLEMENTARY INFORMATION: The Magnuson-Stevens Fishery Conservation and Management Act (Magnuson-Stevens Act) requires that each regional fishery management council submit proposed amendments to a fishery management plan to the Secretary for review and approval, disapproval, or partial approval. The Magnuson-Stevens Act also requires that, upon receiving an FMP amendment, the Secretary immediately publish in the Federal Register a notice that the amendment is available for public review and comment. This notice announces that proposed Amendment 108 to the BSAI FMP, Amendment 100 to the GOA FMP, and Amendment 46 to the Crab FMP are available for public review and comment. No changes to Federal regulations would be necessary to implement the proposed amendments.

Amendment 108 to the BSAI FMP, Amendment 100 to the GOA FMP, and Amendment 46 to the Crab FMP were adopted by the Council on December 15, 2014. If approved by the Secretary, the FMP amendments would modify the following sections: Amendment 108 would amend Table ES-2 and Section 3.3.1 of the BSAI FMP; Amendment 100 would amend Table ES-2 and Section 3.3.1 of the GOA FMP; and Amendment 46 would amend Section 8.1.4.2 of the Crab FMP.

Background

In 1998, the Secretary implemented the LLP to place an upper limit on the number of vessels that could be deployed in the crab and groundfish (other than sablefish) fisheries off Alaska. The LLP was originally intended to address concerns that the harvesting fleet had expanded beyond the size necessary to harvest efficiently the optimum yield of the fisheries off Alaska. The LLP established several exemptions to the requirement that a vessel be named on an LLP license, including an exemption for small vessels. The LLP was established by Amendment 39 to the BSAI FMP, Amendment 41 to the GOA FMP, and Amendment 5 to the Crab FMP, which were implemented by NMFS on October 1, 1998 (63 FR 52642). Additional information about the LLP can be found in the preamble to the proposed rule for these amendments (62 FR 43866, August 15, 1997).

The Council and the Secretary intended that the LLP would retain the vessel length limits that were established for the small vessel exemption from the vessel moratorium program (60 FR 40763; August 10, 1995) as an exemption from the LLP; however, the vessel length limits for the small vessel exemption that were included in the FMPs do not mirror the vessel moratorium small vessel exemption. The current FMP texts do not carry out the Council's and the Secretary's intent that vessels that were exempted from the moratorium also would be exempt from the LLP and are not consistent with the Federal regulations that implement the LLP. The FMP text authorizing the LLP modified the GOA FMP text from “vessels 26 ft or less LOA” to “vessels less than 26 ft LOA,” modified the Crab FMP text from “vessels 32 ft or less LOA” to vessels “< 32'” and modified the BSAI FMP text from “vessels 32 ft or less LOA” to “vessels less than 32 ft LOA”. The revised FMP texts omit vessels that are exactly 26 ft (7.9 m) LOA or 32 ft (9.8 m) LOA. The omitted text is necessary for consistency with Federal regulations that exempt from the LLP vessels that do “not exceed 26 ft (7.9 m) LOA” in the GOA and vessels that do “not exceed 32 ft (9.8 m) LOA” in the BSAI; the Crab FMP only applies to the BSAI. Additional information can be found in the analysis prepared for this action (See ADDRESSES).

If approved by the Secretary, proposed Amendment 108 to the BSAI FMP, proposed Amendment 100 to the GOA FMP, and proposed Amendment 46 to the Crab FMP would correct the omissions in each FMP by adding “or equal to” to the length limits. Specifically, these FMP amendments would add vessels 26 ft (7.9 m) LOA in the GOA and vessels 32 ft (9.8 m) LOA in the BSAI, including BSAI Crab, to the LLP exemption. Since the implementation of the LLP, fisheries in the BSAI and GOA have been conducted according to Federal regulations and not the FMP texts; therefore, there would be no impact to license holders and no change to fishing behavior or fisheries management in the U.S. Exclusive Economic Zone off Alaska if these amendments are approved. These amendments are necessary to make the three FMPs consistent with the original intent of the Council and Secretary, current operations in the fisheries, and Federal regulations. The inconsistencies among FMP text, regulatory text, and Council and Secretarial intent were not identified until August 2014.

Public comments are being solicited on the proposed FMP amendments and must be received by the end of the comment period (see DATES) on Amendment 108 to the BSAI FMP, Amendment 100 to the GOA FMP, and Amendment 46 to the Crab FMP to be considered in the approval/disapproval decision on each amendment. All comments received by the end of the comment period will be considered in the approval/disapproval decision on the amendments. To be considered, comments must be received, not just postmarked or otherwise transmitted, by the end of the comment period.

Authority: 16 U.S.C. 1801 et seq.

Dated: February 6, 2015.
Samuel D. Rauch III,
Deputy Assistant Administrator for Regulatory Programs, National Marine Fisheries Service.

[FR Doc. 2015-02890 Filed 2-11-15; 8:45 am]

BILLING CODE 3510-22-P